BROADCASTING BOARD OF GOVERNORS

Sunshine Act Meeting

DATE AND TIME: Friday, September 19, 2014, 4:00 p.m. EDT.

PLACE: Broadcasting Board of Governors, Cohen Building, Room 3321, 330 Independence Ave. SW., Washington, DC 20237.

SUBJECT: Notice of Closed Meeting of the Broadcasting Board of Governors

SUMMARY: The members of the Broadcasting Board of Governors (BBG) will meet in a special session, to be conducted telephonically, to discuss the results of a search effort for potential candidates for the position the Chief Executive Officer of U.S. International Media. This meeting will be closed to public observation pursuant to 5 U.S.C. 552b(c)(6) in order to protect the privacy interests of candidates considered but not selected for the position. In accordance with the Government in the Sunshine Act and BBG policies, the meeting will be recorded and a transcript of the proceedings, subject to the redaction of information protected by 5 U.S.C. 552b(c)(6), will be made available to the public. The publicly-releasable transcript will be available for download at www.bbg.gov within 21 days of the date of the meeting.

Information regarding member votes to close the meeting and expected attendees can also be found on the Agency's public Web site.

CONTACT PERSON FOR MORE INFORMATION: Persons interested in obtaining more information should contact Oanh Tran at (202) 203-4545.

Oanh Tran,
Director of Board Operations.

[FR Doc. 2014-22362 Filed 9-16-14; 4:15 pm]

BILLING CODE 8610-01-P